Proclamation 10280 of October 8, 2021

Leif Erikson Day, 2021

By the President of the United States of America

A Proclamation

The voyage of Leif Erikson and his valiant crew—bold explorers from Scandinavia, believed to have been the first Europeans to reach the shores of North America—has been a source of inspiration to Nordic Americans for generations. Although they made landfall more than a millennium ago, their historic journey still embodies the spirit of exploration and the ongoing contributions of Nordic Americans to the diversity of our great Nation.

Eight centuries after Leif Erikson's expedition, on October 9, 1825, six Norwegian families arrived in New York City in search of freedom and opportunity. This first group of organized Norwegian immigrants to the United States blazed a new path that fellow Norwegians—as well as Danes, Finns, Icelanders, and Swedes—soon followed, establishing communities in the Great Lakes States, in the northern Great Plains, in enclaves among northern United States cities, and elsewhere across our country. These Northern European settlers have become part of America's rich tapestry, and through service, sacrifice, and countless contributions they have fortified America's culture, society, and economy.

Today, more than 11 million Americans proudly trace their ancestry to Nordic countries. Nordic Americans are leaders in our communities—public officials serving their constituents, law enforcement officers and service members defending our Nation, doctors and nurses, educators, artists, essential workers leading us through the pandemic, visionaries creating new businesses, and so many other important roles. Our Nation is stronger and more dynamic because of the contributions of Nordic Americans. On Leif Erikson Day, we express our appreciation for the many contributions of Nordic Americans, who have enhanced American society and strengthened our cultural diversity.

While the great era of Scandinavian immigration occurred more than a century ago, the legacy of Nordic immigrants endures, along with the values and interests we share with their original homelands—including increasing opportunity for all and recognizing the inherent dignity of every human being. We share mutual commitments to democracy, freedom, human rights, rule of law, security, and prosperity, and Nordic countries remain some of our most reliable military allies and economic partners, helping us meet the shared challenges of our time. The United States greatly values our continued friendship.

To honor Leif Erikson, son of Iceland and grandson of Norway, and to celebrate our Nordic-American heritage, the Congress, by joint resolution (Public Law 88-566) approved on September 2, 1964, has authorized the President of the United States to proclaim October 9th of each year as “Leif Erikson Day.”

NOW, THEREFORE, I, JOSEPH R. BIDEN JR., President of the United States of America, by virtue of the authority vested in me by the Constitution and the laws of the United States, do hereby proclaim October 9, 2021, as Leif Erikson Day. I call upon all Americans to celebrate the contributions of Nordic Americans to our Nation with appropriate ceremonies, activities, and programs.

IN WITNESS WHEREOF, I have hereunto set my hand this eighth day of October, in the year of our Lord two thousand twenty-one, and of the Independence of the United States of America the two hundred and forty-sixth.

[FR Doc. 2021-22513

Filed 10-13-21; 8:45 am]

Billing code 3395-F2-P